DEPARTMENT OF DEFENSE

Department of the Air Force

US Air Force Academy Board of Visitors Meeting

Pursuant to Section 9355, Title 10, United States Code, the U.S. Air Force Academy Board of Visitors will meet at the U.S. Air Force Academy, Colorado Springs, Colorado, 14-15 May 2004. The purpose of the meeting is to consider the morale and discipline, curriculum, instruction, physical equipment, fiscal affairs, academic methods, and other matters relating to the Academy. A portion of the meeting will be open to the public while other portions will be closed to the public to discuss matters listed in Paragraphs (2), (6), and Subparagraph (9)(B) of Subsection (c) of Section 552b, Title 5, United States Code. The determination to close certain sessions is based on the consideration that portions of the briefings and discussion will relate solely to the internal personnel rules and practices of the Board of Visitors or the Academy; involve information of a personal nature, the disclosure of which would constitute a clearly unwarranted invasion of personal privacy; or involve discussions of information the premature disclosure of which would be likely to frustrate implementation of future agency action. Meeting sessions will be held in Fairchild Hall.

For further information, contact Lieutenant Colonel Tom Joyce, Military Assistant, Office of the Deputy Assistant Secretary of the Air Force (Force Management and Personnel), SAF/MRM, 1660 Air Force Pentagon, Washington, DC 20330-1660, (703) 693-9765.

Pamela D. Fitzgerald,
Air Force Federal Register Liaison Officer.

[FR Doc. 04-10721 Filed 5-11-04; 8:45 am]

BILLING CODE 5001-05-P